INTERNATIONAL TRADE COMMISSION

[Investigation No. 731-TA-1041 (Final)]

Certain Wax and Wax/Resin Thermal Transfer Ribbons From Korea

AGENCY: International Trade Commission.

ACTION: Termination of investigation.

SUMMARY: On April 5, 2004, the Department of Commerce published notice in the Federal Register of a negative final determination of sales at less than fair value in connection with the subject investigation (69 FR 17645). Accordingly, pursuant to section 207.40(a) of the Commission's Rules of Practice and Procedure (19 CFR 207.40(a)), the antidumping investigation concerning certain wax and wax/resin thermal transfer ribbons from Korea (investigation No. 731-TA-1041 (Final)) is terminated.

EFFECTIVE DATE: April 6, 2004.

FOR FURTHER INFORMATION CONTACT: Christopher Cassise (202-708-5408), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

Authority: This investigation is being terminated under authority of title VII of the Tariff Act of 1930; this notice is published pursuant to section 201.10 of the Commission's rules (19 CFR 201.10).

Issued: April 7, 2004.
By order of the Commission.
Marilyn R. Abbott,
Secretary to the Commission.

[FR Doc. 04-8200 Filed 4-9-04; 8:45 am]

BILLING CODE 7020-02-P